DEPARTMENT OF COMMERCE

National Institute of Standards and Technology

Announcing a National Cybersecurity Center of Excellence (NCCoE) Workshop

AGENCY: National Institute of Standards and Technology (NIST), Department of Commerce.

ACTION: Notice of initial public workshop.

SUMMARY: NIST announces a National Cybersecurity Center of Excellence (NCCoE) Workshop to be held on Tuesday, June 26, 2012. This is an initial informational NCCoE workshop. The goals of this workshop are to provide a venue for discussion of the NCCoE public-private partnership structure, and to describe and gather input from individual participants on possible case studies that are expected to form a central focus of collaborative efforts. The workshop will also describe and explore opportunities for industry, academia, and Federal, state and local government agencies to participate in the NCCoE.

DATES: The NCCoE Workshop will be held on Tuesday, June 26, 2012 from 8 a.m. Eastern Time to 5 p.m. Eastern Time. Attendees must register by 5 p.m. Eastern Time on Tuesday, June 19, 2012.

ADDRESSES: The event will be held at the Universities at Shady Grove, 9630 Gudelsky Drive, Rockville, MD 20850.

FOR FURTHER INFORMATION CONTACT: For further information contact N. Lucy Salah by email at nccoe@nist.gov or by phone at (301) 975-4500. To register, go to: https://www.fbcinc.com/NIST/nccoe/atreg1.aspx. Additional workshop details will be available at http://csrc.nist.gov/nccoe.

SUPPLEMENTARY INFORMATION: The NCCoE is a public-private collaboration for accelerating the widespread adoption of integrated cybersecurity tools and technologies. The NCCoE will bring together experts from industry, government and academia under one roof to develop practical, interoperable cybersecurity approaches that address the real world needs of complex Information Technology (IT) systems. By accelerating dissemination and use of these integrated tools and technologies for protecting IT assets, the NCCoE will enhance trust in U.S. IT communications, data, and storage systems; lower risk for companies and individuals in the use of IT systems; and encourage development of innovative, job-creating cybersecurity products and services.

This initial workshop will provide a venue for discussion of the NCCoE public-private partnership structure, and describe and gather input from individual participants on possible case studies that are expected to form a central focus of collaborative efforts. The workshop will also describe and explore opportunities for industry, academia, and Federal, state and local government agencies to participate in the NCCoE.

The workshop is open to the general public; however, those wishing to attend must register at https://www.fbcinc.com/NIST/nccoe/atreg1.aspx by 5 p.m. Eastern Time on Tuesday, June 19, 2012, in order to attend.

For additional information on the NCCoE governance and NCCoE operational structure, visit the NCCoE Web site http://csrc.nist.gov/nccoe.

Dated: April 27, 2012.
Willie E. May,
Associate Director for Laboratory Programs.

[FR Doc. 2012-10810 Filed 5-3-12; 8:45 am]

BILLING CODE 3510-13-P